DEPARTMENT OF HOMELAND SECURITY

Coast Guard

33 CFR Part 165

[Docket No. COTP Morgan City—07-018]

RIN 1625—AA00

Safety Zone; Morgan City-Port Allen Alternate Route, Mile Marker 0.5 to Mile Marker 1.0, Bank to Bank

AGENCY: Coast Guard, DHS.

ACTION: Temporary final rule.

SUMMARY: The Coast Guard is establishing a temporary Safety Zone on the Morgan City-Port Allen Alternate Route, from Mile Marker 0.5 to Mile Marker 1.0, bank to bank. This Safety Zone is needed to protect divers, vessels, and tows from destruction, loss, or injury from salvage operations to remove a crane from beneath the Long-Allen Fixed Bridge, and to facilitate compliance with a court approved Consent Judgment whereby the crane must be removed prior to December 1, 2007.

DATES: This rule is effective from 6 a.m. on October 29, 2007 until 6 p.m. on November 11, 2007.

ADDRESSES: Documents indicated in this preamble as being available in the docket are part of COTP Morgan City-07-018 and are available for inspection or copying at Marine Safety Unit Morgan City, 800 David Drive, Morgan City, Louisiana, 70380 between 8 a.m. and 4 p.m., Monday through Friday, except Federal holidays.

FOR FURTHER INFORMATION CONTACT: Lieutenant Commander (LCDR) Rick Paciorka, Marine Safety Unit Morgan City, at (985) 380-5320.

SUPPLEMENTARY INFORMATION:

Regulatory Information

We did not publish a notice of proposed rulemaking (NPRM) for this regulation. Under 5 U.S.C. 553(b)(B), the Coast Guard finds that good cause exists for not publishing an NPRM, and under 5 U.S.C. 553(d)(3), good cause exists for making this rule effective less than 30 days after publication in the Federal Register. Establishment of this safety zone is required to comply with a Consent Judgment approved by the Honorable Kurt D. Engelhardt, U.S. District Judge, in his order dated May 17, 2007. Pursuant to his Order, the Consent Judgment between Jefferson Marine Towing Inc., et al and the United States requires the crane to be removed by Jefferson Marine not later than 1 December 2007. In order to effect the Consent Judgment's court approved deadline, the U.S. Army Corps of Engineers (ACOE), the U.S. Coast Guard, and Jefferson Marine met to discuss the parameters of a salvage plan. This plan was preliminarily approved on 29 August 2007. The preliminary plan projected salvage operations beginning on 17 September 2007. Given the potential impact on the public and industry of this near term major waterway closure, the Coast Guard and the ACOE negotiated a later date beginning 29 October 2007. This later date allowed for transit planning that accommodates the vast majority of fall harvest barge movement while still allowing for completion of the salvage work by the court ordered deadline. The 29 October date was tentatively agreed upon on 13 September 2007. Publishing an NPRM and delaying its effective date would be contrary to public interest since immediate action is needed to protect divers, vessels, and mariners from the hazards associated with salvage operations in the area, and to facilitate compliance with the court approved Consent Judgment whereby the salvage operation must be concluded by 1 December 2007.

Background and Purpose

Due to an allision with the Long-Allen fixed bridge, a crane was lost from a barge into the Morgan City-Port Allen Alternate Route. Salvage operations will be conducted in the vicinity of the Long-Allen Fixed bridge to recover the crane. The Morgan City-Port Allen Alternate Route will be closed to marine traffic during salvage operations. This Safety Zone is needed to protect divers, vessels, and tows from destruction, loss or injury from the dangers associated with the salvage operations, and to facilitate compliance with a court approved Consent Judgment whereby the salvage operation must be concluded by 1 December 2007.

Discussion of Rule

The Coast Guard is establishing a temporary Safety Zone on the Morgan City-Port Allen Alternate Route, from Mile Marker 0.5 to Mile Marker 1.0, bank to bank. The temporary Safety Zone will continue in effect until the salvage operations are complete. Vessels and tows may not enter this zone while salvage operations are taking place. This rule is effective from 6 a.m. on October 29, 2007 until 6 p.m. on November 11, 2007.

Regulatory Evaluation

This rule is not a “significant regulatory action” under section 3(f) of Executive Order 12866, Regulatory Planning and Review, and does not require an assessment of potential costs and benefits under section 6(a)(3) of that Order. The Office of Management and Budget has not reviewed it under that Order.

This rule will only be in effect for a 14 day period of time and notifications to the marine community will be made through broadcast notice to mariners. The impacts on routine navigation are expected to be moderate to great. Vessels may continue to transit through alternate routes to their destinations.

Small Entities

Under the Regulatory Flexibility Act (5 U.S.C. 601—612), we have considered whether this rule would have a significant economic impact on a substantial number of small entities. The term “small entities” comprises small businesses, not-for-profit organizations that are independently owned and operated and are not dominant in their fields, and governmental jurisdictions with populations of less than 50,000.

The Coast Guard certifies under 5 U.S.C. 605 (b) that this rule will not have a significant economic impact on a substantial number of small entities. This rule will affect the following entities, some of which may be small entities: the owners or operators of vessels intending to transit through the Safety Zone from 6 a.m. CDT on October 29, 2007 until 6 p.m. CST on November 11, 2007. This Safety Zone will not have a significant economic impact on a substantial number of small entities because this rule will be in effect for a 14 day period of time. Additionally, vessels may continue to transit through alternate routes to their destinations.

If you are a small business entity and are significantly affected by this regulation, please contact LCDR Rick Paciorka, Marine Safety Unit Morgan City, at (985) 380-5320.

Assistance for Small Entities

Under section 213(a) of the Small Business Regulatory Enforcement Fairness Act of 1996 (Pub. L. 104-121), we offered to assist small entities in understanding the rule so they could better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that Order because it is not a “significant regulatory action” under Executive Order 12866 and is not likely to have a significant adverse effect on the supply, distribution, or use of energy. The Administrator of the Office of Information and Regulatory Affairs has not designated it as significant energy action. Therefore, it does not require a Statement of Energy Effects under Executive Order 13211.

Environment

We have analyzed this rule under Commandant Instruction M16475.1D, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(g), of the Instruction, from further environmental documentation because this rule is not expected to result in any significant adverse environmental impact as described in NEPA.

Under figure 2-1, paragraph (34)(g), of the Instruction, an “Environmental Analysis Check List” and a “Categorical Exclusion Determination” are not required for this rule.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1, 6.04-1, 6.04-6, and 160.5; Pub. L. 107-295, 116 Stat. 2064; Department of Homeland Security Delegation No. 0170.1.

2. A new temporary § 165.T08-018 is added to read as follows:

§ 165.T08-018 Safety Zone; Morgan City-Port Allen Alternate Route, from Mile Marker 0.5 to Mile Marker 1.0, bank to bank.

(a) Enforcement Areas. Morgan City-Port Allen Alternate Route, from Mile Marker 0.5 to Mile Marker 1.0, bank to bank.

(b) Effective date. This section is effective from 6 a.m. on October 29, 2007 until 6 p.m. on November 11, 2007.

(c) Regulations. (1) In accordance with the general regulations in § 165.33 of this part, entry into this zone is prohibited unless authorized by the Captain of the Port Morgan City.

(2) Vessels requiring entry into or passage through the Safety Zone must request permission from the Captain of the Port Morgan City, or a designated representative. They may be contacted on VHF Channel 11, or by telephone at (985) 380-5320.

(3) All persons and vessels shall comply with the instructions of the Captain of the Port Morgan City and designated on-scene U.S. Coast Guard patrol personnel. On-scene U.S. Coast Guard patrol personnel include commissioned, warrant, and petty officers of the U.S. Coast Guard.

Dated: October 23, 2007.
J. Scott Paradis,
Captain, U.S. Coast Guard, Captain of the Port Morgan City.

[FR Doc. 07-5354 Filed 10-24-07; 1:09 pm]

BILLING CODE 4910-15-P